DEPARTMENT OF COMMERCE

Census Bureau

Proposed Information Collection; Comment Request; Field Representatives/Enumerators Exit Questionnaire

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before April 21, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Darlene Moul, Census Bureau/Field Division, Room 5H051, Washington, DC 20233, or 301-763-1935, or via the Internet at darlene.a.moul@census.gov.

SUPPLEMENTARY INFORMATION:

I. Abstract

In a continuous effort to devise policies and practices aimed at reducing turnover among interviewers, the Census Bureau collects data on the reasons interviewers voluntarily quit their jobs with the Census Bureau. The exit questionnaires, BC-1294 and BC-1294(D), are the instruments used to collect this data from a sample of former current survey interviewers (field representatives) and decennial census interviewers (enumerators/listers), respectively. Both forms ask questions about the factors that affected an interviewer's decision to voluntarily leave Census Bureau employment. Since the nature of census enumerator work differs from current survey interviewing, we created two questionnaires that are tailored to the operational differences. While the forms cover the same topics, the questions and response choices on the BC-1294 and BC-1294(D) reflect the differences in the current survey and decennial interviewing operations.

Because of both the monetary cost associated with turnover and the potential impact on data quality, the retention of trained field interviewing staff is a major concern for the Census Bureau. Consequently the goal or purpose of the exit questionnaires is to identify the reasons for interviewer turnover and determine what the Census Bureau might have done, or can do, to influence interviewers not to leave. Therefore, the exit questionnaire seeks reasons interviewers quit, inquires about motivational factors that would have kept the interviewers from leaving, identifies training program strengths and areas for improvement, and explores the impact of automation and the influence of pay and other working conditions on turnover. The information provided by respondents to the exit questionnaire provides insight on the measures the Census Bureau might take to decrease turnover, and is useful in helping to determine if the reasons for interviewer turnover appear to be systemic or localized.

To accomplish the goal of reducing interviewer turnover, Census Bureau planners and decision makers must fully understand the relative importance and interaction of possible contributory factors. From both the BC-1294 and BC-1294(D), we have learned that the causes of interviewer turnover are often a combination of reasons rather than one single reason. We have also learned that there are some reasons for turnover which are within the Census Bureau's control and some which are not. This data is not available from any other source. The exit questionnaire is the only instrument that solicits the information we need to answer our questions concerning the impact of the various factors on Census Bureau interviewer turnover.

As the environment in which surveys take place, the nature of surveys conducted, and the characteristics of our labor force continue to change, it is important that we continue to examine the interviewers' concerns about the job of a Census Bureau interviewer. The exit questionnaire has proven to be very useful and, therefore, we want to continue to use it. The data we collect from current survey interviewers and enumerators/listers during the 2010 decennial census will help the Census Bureau develop plans to reduce turnover. These results will also allow for better informed management decisions regarding the future field work force and the implementation of more effective recruitment, pay plans, interviewer training, and retention strategies.

II. Method of Collection

The exit questionnaire will be administered by telephone. This methodology is employed due to the nature of the questions, which may require probing to obtain or clarify answers. In addition, telephone methodology has historically yielded response rates that are greater than those obtained from similar mail out/mail back methodologies, especially when the collection interval is relatively short, and the audience is former employees.

A sample of former employees will be called and asked a series of questions about when and why they voluntarily quit their job. The sample will not include interviewers (current survey or decennial) who have been terminated for cause. Interviews with former field representatives should take approximately seven (7) minutes. Because of the nature of some of the questions on the BC-1294(D), interviews with former enumerators/listers should take approximately ten (10) minutes. We estimate that interviews will be conducted with a total of 500 field representatives and 1,000 enumerators on a yearly basis.

For Former Field Representatives: Approximately every month, a sample of one-half of all interviewers who voluntarily resigned, within a given sampling period, will be contacted by telephone to complete a questionnaire. The sample size will vary since it is dependent on the universe size, which varies from one sampling period to the next.

For Former 2010 Census Enumerators and Listers: Beginning approximately two weeks after the start of decennial field operations (Address Canvassing, Update/Enumerate and Nonresponse-Followup), all enumerators or listers who have been in a continuous non-pay status for a period of two weeks will be contacted by telephone and asked to complete a questionnaire.

III. Data

OMB Control Number: 0607-0404.

Form Number: BC-1294, BC-1294(D).

Type of Review: Regular submission.

Affected Public: Former Census Bureau Interviewers (Field Representatives and Enumerators/Listers).

Estimated Number of Respondents: 500 Former Current Survey Interviewers; 1000 Former 2010 Census Enumerators/Listers.

Estimated Time per Response: Seven (7) minutes for Former Current Survey Interviewers; Ten (10) minutes for Census Enumerator/Listers.

Estimated Total Annual Burden Hours: 226 hours (59 hours for Current Survey Interviewers; 167 hours for Census Enumerators/Listers).

Estimated Total Annual Cost: Approximately $4,000 for the BC-1294. Additional cost for administering the BC-1294(D) during decennial operations is approximately $8,000. The Census Bureau will bear this cost. There is no cost to respondents other than their time.

Respondent's Obligation: Voluntary.

Legal Authority: Title 15 U.S.C., section 3101 and Title 13, U.S.C. section 23.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 12, 2008.
Gwellnar Banks,
Management Analyst, Office of the Chief Information Officer.

[FR Doc. E8-2929 Filed 2-20-08; 8:45 am]

BILLING CODE 3510-07-P